NATIONAL AERONAUTICS AND SPACE ADMINISTRATION

[Notice (15-111)]

Notice of Intent to Grant Exclusive Patent License

AGENCY: National Aeronautics and Space Administration.

ACTION: Notice of Intent to Grant Exclusive Patent License.

SUMMARY: This notice is issued in accordance with 35 U.S.C. 209(e) and 37 CFR 404.7(a)(1)(i). NASA hereby gives notice of its intent to grant an exclusive patent license in the United to practice the invention described and claimed in the following U.S. Patent Applications by, inter alia, engaging in marketing activities: U.S. Patent Application No. 13/601,194, “Microfluidic Device and Method of Fabricating Microfluidic Devices,” and U.S. Patent Application No. 14/021,812 “MEMS Chip with Microfluid Channel Having Multi-Function Microposts,” to ICAP Patent Brokerage, having its principal place of business in New York, NY.

The patent rights in these inventions have been assigned to the United States of America as represented by the Administrator of the National Aeronautics and Space Administration. The prospective exclusive license will comply with the terms and conditions of 35 U.S.C. 209 and 37 CFR 404.7. NASA has not yet made a determination to grant exclusive licenses and may deny the requested licenses even if no objections are submitted within the comment period.

DATES: The prospective exclusive license may be granted unless, within fifteen (15) days from the date of this published notice, NASA receives written objections including evidence and argument that establish that the grant of exclusives licenses would not be consistent with the requirements of 35 U.S.C. 209 and 37 CFR 404.7. Competing applications completed and received by NASA within fifteen (15) days of the date of this published notice will also be treated as objections.

Objections submitted in response to this notice will not be made available to the public for inspection and, to the extent permitted by law, will not be released under the Freedom of Information Act, 5 U.S.C. 552.

ADDRESSES: Objections relating to the prospective license may be submitted to Mr. Bryan A. Geurts, Chief Patent Counsel, Goddard Space Flight Center, Code 140.1, Greenbelt, MD 20771, Phone: (301) 286-7351; Fax (301) 286-9502.

FOR FURTHER INFORMATION CONTACT: Darryl Mitchell, Innovative Technology Partnerships Office, Goddard Space Flight Center, Code 504, Greenbelt, MD 20771 Phone: (301) 286-5810. Information about other NASA inventions available for licensing can be found online at http://technology.nasa.gov/.

Mark P. Dvorscak,
Agency Counsel for Intellectual Property.

[FR Doc. 2015-30267 Filed 11-27-15; 8:45 am]

BILLING CODE 7510-13-P